DEPARTMENT OF COMMERCE

Foreign-Trade Zones Board

[B-31-2022]

Foreign-Trade Zone (FTZ) 222—Birmingham, Alabama, Authorization of Production Activity, Hyundai Motor Manufacturing Alabama, LLC (Passenger Automobiles, Trucks, and Cargo Trucks), Montgomery, Alabama

On July 22, 2022, Hyundai Motor Manufacturing Alabama, LLC submitted a notification of proposed production activity to the FTZ Board for its facility within Subzone 222A, in Montgomery, Alabama.

The notification was processed in accordance with the regulations of the FTZ Board (15 CFR part 400), including notice in the Federal Register inviting public comment (87 FR 47962, August 5, 2022). On November 21, 2022, the applicant was notified of the FTZ Board's decision that no further review of the activity is warranted at this time. The production activity described in the notification was authorized, subject to the FTZ Act and the FTZ Board's regulations, including section 400.14.

Dated: November 21, 2022.
Andrew McGilvray,
Executive Secretary.

[FR Doc. 2022-25728 Filed 11-23-22; 8:45 am]

BILLING CODE 3510-DS-P